DEPARTMENT OF THE INTERIOR

Fish and Wildlife Service

50 CFR Part 17

[Docket No. FWS-R4-ES-2021-0133; FF09E21000 FXES1111090FEDR 223]

RIN 1018-BF29

Endangered and Threatened Wildlife and Plants; Technical Amendments for Southeastern Mussels, Snails, and a Reptile

AGENCY: Fish and Wildlife Service, Interior.

ACTION: Direct final rule.

SUMMARY: We, the U.S. Fish and Wildlife Service, announce the revised taxonomy of 16 wildlife species under the Endangered Species Act of 1973, as amended (Act). We are revising the List of Endangered and Threatened Wildlife and/or other applicable regulations to reflect the scientifically accepted taxonomy and nomenclature of these species.

DATES: This rule is effective May 18, 2022 without further action, unless significant adverse comment is received by March 21, 2022. If significant adverse comment is received, we will publish a timely withdrawal of the rule for the appropriate species in the Federal Register.

ADDRESSES: You may submit comments by one of the following methods:

(1) Electronically: Go to the Federal eRulemaking Portal: http://www.regulations.gov. In the Search box, enter FWS-R4-ES-2021-0133, which is the docket number for this rulemaking. Then, click on the Search button. On the resulting page, in the Search panel on the left side of the screen, under the Document Type heading, click on the Rule box to locate this document. You may submit a comment by clicking on “Comment.”

(2) By hard copy: Submit by U.S. mail to: Public Comments Processing, Attn: FWS-R4-ES-2021-0133, U.S. Fish and Wildlife Service, MS: PRB/3W (JAO), 5275 Leesburg Pike, Falls Church, VA 22041-3803.

We request that you send comments only by the methods described above. We will post all comments on http://www.regulations.gov. This generally means that we will post any personal information you provide us (see Public Comments, below, for more information).

FOR FURTHER INFORMATION CONTACT: Nicole Rankin, Chief, Division of Conservation and Classification, U.S. Fish and Wildlife Service, Interior Regions 2 and 4, 1875 Century Boulevard NE, Atlanta, GA 30345; telephone 404-679-7089. Individuals who are hearing impaired or speech impaired may call the Federal Relay Service at 800-877-8337 for TTY (telephone typewriter or teletypewriter) assistance 24 hours a day, 7 days a week.

SUPPLEMENTARY INFORMATION:

Purpose of Direct Final Rule and Final Action

The purpose of this direct final rule is to notify the public that we are revising the List of Endangered and Threatened Wildlife (List) in title 50 of the Code of Federal Regulations (CFR) at § 17.11(h) (50 CFR 17.11(h)) and/or other applicable regulations to reflect the scientifically accepted taxonomy and nomenclature of 13 freshwater mussel species, 2 snail species, and 1 reptile species listed under section 4 of the Act (16 U.S.C. 1531 et seq.). These changes to the List and/or other applicable regulations reflect the most recently accepted scientific name in accordance with 50 CFR 17.11(c).

We are publishing this rule without a prior proposal because this is a noncontroversial action that is in the best interest of the public and should be undertaken in as timely a manner as possible. This rule will be effective, as published in this document, on the effective date specified in DATES, unless we receive significant adverse comments by the comment due date specified in DATES. Significant adverse comments are comments that provide strong justification as to why our rule should not be adopted or why it should be changed.

If we receive significant adverse comments regarding the taxonomic changes for any of these species, we will publish a document in the Federal Register withdrawing this rule for the appropriate species before the effective date, and we will publish a proposed rule to initiate promulgation of those changes to 50 CFR 17.11(h) and/or other applicable regulations.

Public Comments

You may submit your comments and materials regarding our direct final rule by one of the methods listed in ADDRESSES. Please include sufficient information with your submission (such as scientific journal articles or other publications) to allow us to verify any scientific or commercial information you include.

If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing this direct final rule, will be available for public inspection on http://www.regulations.gov.

Background

Sections 17.11(c) and 17.12(b) of title 50 of the CFR direct us to use the most recently accepted scientific name of any species that we have determined to be an endangered or threatened species. Using the best available scientific information, this direct final rule documents taxonomic changes of the scientific names to 12 entries under “Clams,” 2 entries under “Snails,” and 1 entry under “Reptiles” on the List at 50 CFR 17.11(h). The basis for these taxonomic changes is supported by published studies in peer-reviewed journals. Accordingly, we revise the scientific names of these 15 species under section 4 of the Act (16 U.S.C. 1533) as follows:

Species name as currently listed | Corrected species name
Ouachita rock-pocketbook (Arkansia wheeleri) | Ouachita rock pocketbook (Arcidens wheeleri).
Northern riffleshell (Epioblasma torulosa rangiana) | Northern riffleshell (Epioblasma rangiana).
Finelined pocketbook (Lampsilis altilis) | Finelined pocketbook (Hamiota altilis).
Orangenacre mucket (Lampsilis perovalis) | Orangenacre mucket (Hamiota perovalis).
Shinyrayed pocketbook (Lampsilis subangulata) | Shinyrayed pocketbook (Hamiota subangulata).
Choctaw bean (Villosa choctawensis) | Choctaw bean (Obovaria choctawensis).
James spinymussel (Pleurobema collina) | James spinymussel (Parvaspina collina).
Tar River spinymussel (Elliptio steinstansana) | Tar River spinymussel (Parvaspina steinstansana).
Cumberland pigtoe (Pleurobema gibberum) | Cumberland pigtoe (Pleuronaia gibber).
Round ebonyshell (Fusconaia rotulata) | Round ebonyshell (Reginaia rotulata).
Cumberland monkeyface (Quadrula intermedia) | Cumberland monkeyface (Theliderma intermedia).
Appalachian monkeyface (pearlymussel) (Quadrula sparsa) | Appalachian monkeyface (Theliderma sparsa).
Royal marstonia (Pyrgulopsis ogmorhaphe) | Royal marstonia (Marstonia ogmorhaphe).
Armored marstonia (snail) (Pyrgulopsis (= Marstonia) pachyta) | Armored marstonia (Marstonia pachyta).
Eastern indigo snake (Drymarchon corais couperi) | Eastern indigo snake (Drymarchon couperi).

We make these changes to the List at 50 CFR 17.11(h) to reflect the most recently accepted scientific name in accordance with 50 CFR 17.11(c).

In addition, while the List provides the correct scientific name for the fluted kidneyshell, Ptychobranchus subtentus, its critical habitat designation at 50 CFR 17.95(f) does not. We are correcting the scientific name of this species in its critical habitat entry, as explained below.

Taxonomic Classification

Ouachita Rock Pocketbook

On October 23, 1991, we published a final rule (56 FR 54950) listing the Ouachita rock-pocketbook (Arkansia wheeleri) as an endangered species. At the time of listing and preparation of the recovery plan, standard classifications of mollusks from the United States and Canada (Turgeon et al. 1988, p. 29; Turgeon et al. 1998, p. 32; Williams et al. 1993, p. 11) placed the Ouachita rock pocketbook in the genus Arkansia. Williams et al. (2017) published an updated standard list of freshwater mussels of the United States and Canada, in which they made Arkansia a synonym of Arcidens and thus reassigned the Ouachita rock pocketbook to the latter genus. Williams et al. (2017, p. 46) based their actions on the analyses by Inoue et al. (2014, entire) and the prior recommendations of Clarke (1981, pp. 85-89) and Graf and Cummings (2007, p. 305). This taxonomic change does not affect the range or endangered status of the Ouachita rock pocketbook.

Northern Riffleshell

On January 22, 1993, we published a final rule (58 FR 5638) listing the northern riffleshell (Epioblasma torulosa rangiana) as an endangered species. It was taxonomically categorized as a subspecies (Epioblasma torulosa rangiana) at the time of listing and recovery plan development. The taxonomy of the northern riffleshell and related taxa has been variable due to uncertain species' designations, a general change in the definition of the species' concept in freshwater mussels (Williams et al. 2017, p. 34), and ecophenotypic variation (characteristics modified by environmental factors). The decline and extinction of many Epioblasma occurred before genetic techniques became available to provide data that could be informative to the species' taxonomy. At the time we listed the northern riffleshell as endangered as Epioblasma torulosa rangiana, it was one of three subspecies, with the tubercled blossom, Epioblasma torulosa, and green blossom, Epioblasma torulosa gubernaculum (Turgeon et al. 1998, pp. 34, 182). Cummings and Berlocher (1990, p. 92) found no evidence of intergradation between E. t. torulosa and E. t. rangiana, and both taxa co-occurred at many sites; based on this evidence, Williams et al. (2017, p. 48) elevated these subspecies to species status. This taxonomic change does not affect the range or endangered status of the northern riffleshell.

Hamiota

The genus Hamiota was recently described to accommodate a monophyletic clade (a group descended from a common ancestor) of four species that produce superconglutinates (enclosing their larvae in a minnow-like lure). The four species previously recognized under Lampsilis are: L. altilis, L. australis, L. perovalis, and L. subangulata (Roe and Hartfield 2005, entire; Roe et al. 2001, pp. 2230-2232). The new genus has been recognized within recent taxonomic publications (e.g., Williams et al. 2008; Williams et al. 2017). Williams et al. (2017, p. 49) recognize the reassignment of these species from Lampsilis to Hamiota. The southern sandshell (Hamiota australis) is already recognized as such on the List. The remaining three species are discussed below.

Finelined Pocketbook

On March 17, 1993, we published a final rule (58 FR 14330) listing the finelined pocketbook (Lampsilis altilis) as a threatened species. On July 1, 2004, we published a final rule (69 FR 40084) designating critical habitat for the finelined pocketbook. Williams et al. (2017, p. 49) reassigned the scientific name for the finelined pocketbook from Lampsilis to Hamiota altilis. With this rule, in addition to amending the scientific name of the species in the List, we correct the scientific name for this species in its critical habitat designation at 50 CFR 17.95(f). This taxonomic change does not affect the range, threatened status, or designated critical habitat of the finelined pocketbook.

Orangenacre Mucket

On March 17, 1993, we published a final rule (58 FR 14330) listing the orangenacre mucket (Lampsilis perovalis) as a threatened species. On July 1, 2004, we published a final rule (69 FR 40084) designating critical habitat for the orangenacre mucket. In the March 17, 1993, final rule, we also recognized the following names as synonyms of Lampsilis perovalis: Unio perovalis Conrad, Unio doliaris Lea, Unio placitus Lea, and Unio spilimani Lea. Williams et al. (2017, p. 49) reassigned the scientific name for the orangenacre mucket from Lampsilis to Hamiota perovalis. With this rule, in addition to amending the scientific name of the species in the List, we correct the scientific name for this species in its critical habitat designation at 50 CFR 17.95(f). This taxonomic change does not affect the range, threatened status, or designated critical habitat of the orangenacre mucket.

Shinyrayed Pocketbook

On March 16, 1998, we published a final rule (63 FR 12664) listing the shinyrayed pocketbook (Lampsilis subangulata) as an endangered species. On November 15, 2007, we published a final rule (72 FR 64286) designating critical habitat for the species. Williams et al. (2017, p. 49) reassigned the scientific name for the shinyrayed pocketbook from Lampsilis to Hamiota subangulata. With this rule, in addition to amending the scientific name of the species in the List, we correct the scientific name for this species in its critical habitat designation at 50 CFR 17.95(f). This taxonomic change does not affect the range, endangered status, or designated critical habitat of the shinyrayed pocketbook.

Choctaw Bean

On October 10, 2012, we published a final rule (77 FR 61664) listing the Choctaw bean (Villosa choctawensis) as an endangered species and designating critical habitat for the species. Turgeon et al. (1998, p. 37) recognized 17 species and 1 subspecies of Villosa. The genus is polyphyletic, with species occurring in as many as seven different clades within the Lampsilini (Kuehnl 2009; entire). Based on molecular data (Kuehnl 2009, pp. 100, 106-107; Inoue et al. 2013, entire) and marsupial morphology (Williams et al. 2011, p. 22), Williams et al. (2017, pp. 53-54) reassigned Villosa choctawensis to Obovaria. Evidence also supports reassignment to Obovaria of species recognized by Turgeon et al. (1998) under other genera. Williams et al. (2017, p. 50) reassigned the scientific name for the Choctaw bean from Villosa to Obovaria choctawensis. With this rule, in addition to amending the scientific name of the species in the List, we correct the scientific name for this species in its critical habitat designation at 50 CFR 17.95(f). This taxonomic change does not affect the range, endangered status, or designated critical habitat of the Choctaw bean.

Spinymussel

The new genus Parvaspina was recently described to accommodate a monophyletic clade of two species previously recognized as Pleurobema collina and Elliptio steinstansana (Perkins et al. 2017, entire). Williams et al. (2017, pp. 47, 51) reassigned the scientific name for the James spinymussel from Pleurobema to Parvaspina collina and the Tar River spinymussel from Elliptio to Parvaspina steinstansana.

James Spinymussel

On July 22, 1988, we published a final rule (53 FR 27689) listing the James spinymussel (Pleurobema collina) as an endangered species. Turgeon et al. (1998, pp. 32, 183-184) recognized 32 species of Pleurobema, making it one of the largest unionid genera. Molecular data largely support the monophyly of Pleurobema as depicted by Turgeon et al. (1998, pp. 32, 183-184) with two exceptions. Three studies support reassignment of Pleurobema to Parvaspina collina (Campbell et al. 2008, pp. 712, 719; Campbell and Lydeard 2012b, pp. 20, 24-26, 29, 34; Perkins et al. 2017, entire). This taxonomic change does not affect the range or endangered status of the James spinymussel.

Tar River Spinymussel

On June 27, 1985, we published a final rule (50 FR 26572) listing the Tar River spinymussel (Elliptio (Canthyria) steinstansana) as an endangered species. The species recovery plan (1987) also uses the scientific name Elliptio (Canthyria) steinstansana. Turgeon et al. (1998, pp. 33, 181) recognized 36 species in the genus Elliptio, making it the largest unionid genus in the United States and Canada. Recent molecular studies have largely supported the monophyly of Elliptio with two exceptions, including the Tar River spinymussel (Campbell and Lydeard 2012b, p. 20; Perkins et al. 2017, entire). Williams et al. (2017, pp. 38, 41) recognize the reassignment of Elliptio to Parvaspina steinstansana based on molecular data (Perkins et al. 2017, entire). This taxonomic change does not affect the range or endangered status of the Tar River spinymussel.

Cumberland Pigtoe

On May 7, 1991, we published a final rule (56 FR 21084) listing the Cumberland pigtoe (Pleurobema gibberum) as an endangered species. The genus Pleuronaia was created as a subgenus by Frierson (1927, p. 58) but has since been elevated to genus level based on phylogenetic analysis of DNA sequence data (Campbell et al. 2005, p. 147) and shell morphology (Williams et al. 2008). Williams et al. (2017, pp. 42, 51) reassign the Cumberland pigtoe from Pleurobema to Pleuronaia and recognize it as Pleuronaia gibber. This taxonomic change does not affect the range or endangered status of the Cumberland pigtoe.

Fluted Kidneyshell

On September 26, 2013, we published a final rule (78 FR 59269) listing the fluted kidneyshell (Ptychobranchus subtentum) as an endangered species and designating critical habitat for the species. Williams et al. (2017, pp. 42, 51) lists the gender agreement spelling correction of Ptychobranchus subtentum to P. subtentus following Lee (2008, p. 262). The taxonomic change to Ptychobranchus subtentus was made to the List with a final rule we published on August 4, 2016 (81 FR 51550); however, that rule did not also change the scientific name of the species in its critical habitat designation. We are, therefore, correcting the scientific name of the fluted kidneyshell in its critical habitat designation at 50 CFR 17.95(f) with this direct final rule. This change does not affect the range, endangered status, or designated critical habitat of the fluted kidneyshell.

Round Ebonyshell

On October 10, 2012, we published a final rule (77 FR 61664) listing the round ebonyshell (Fusconaia rotulata) as an endangered species and designating critical habitat for the species. The round ebonyshell has been assigned to a number of genera since discovery. Based on a recent molecular study, Fusconaia rotulata was reassigned to the new genus Reginaia (Campbell and Lydeard 2012a, pp. 20, 25-26, 34). Williams et al. 2017 (p. 50) recognized the Reginaia as the new genus for this species. With this rule, in addition to amending the scientific name of the species in the List, we correct the scientific name for this species in its critical habitat designation at 50 CFR 17.95(f). This taxonomic change does not affect the range, endangered status, or designated critical habitat of the round ebonyshell.

Theliderma

The genus Theliderma was created by Graf and Cummings (2007, p. 308) to accommodate five species with a common ancestor: Quadrula cylindrica, Q. intermedia, Q. metanevra, Q. sparsa, and Q. stapes (Serb et al. 2003, p. 9). Williams et al. (2017, p. 52) recognize placement of all five of these species in Theliderma.

Cumberland and Appalachian Monkeyface

On June 14, 1976, we published a final rule (41 FR 24062) listing the Cumberland monkeyface and Appalachian monkeyface (Quadrula intermedia and Quadrula sparsa, respectively) as endangered species. Williams et al. (2017, pp. 43, 52) reassigned the Cumberland monkeyface and Appalachian monkeyface to the genus Theliderma (Serb et al. 2003, p. 9; Campbell and Lydeard 2012b, p. 33; see also Graf and Cummings 2007, p. 308) and recognized the scientific names Theliderma intermedia and Theliderma sparsa, respectively. These pearlymussels have nonessential experimental populations designated at 50 CFR 17.85(a) (for Cumberland monkeyface) and 17.85(b) (for both Appalachian monkeyface and Cumberland monkeyface); with this rule, in addition to amending the scientific name of the species in the List, we correct the scientific name for these species at 50 CFR 17.85(a) and (b). This taxonomic change does not affect the range, endangered status, or nonessential experimental populations for these mussels.

Royal Marstonia

On April 15, 1994, we published a final rule (59 FR 17994) listing the royal marstonia (Pyrgulopsis ogmorhaphe) as an endangered species. The nomenclature for the royal marstonia has changed since listing. Thompson and Herschler (2002, pp. 269-270) re-evaluated eastern North American species assigned to Pyrgulopsis and, based on strongly differentiated morphological characteristics between eastern and western congeners of Pyrgulopsis, recognized them as distinct species of the genus Marstonia. Similarly, Johnson et al. (2013, p. 274) used M. ogmorhaphe in their Conservation Status of Freshwater Gastropods of Canada and United States. This taxonomic change does not affect the range or endangered status of royal marstonia.

Armored Marstonia

On February 25, 2000, we published a final rule (65 FR 10033) listing the armored marstonia (snail) (Pyrgulopsis (= Marstonia) pachyta) as an endangered species. A subsequent study showed that eastern and western Pyrgulopsis were consistently differentiable based on anatomical characters (Thompson and Hershler 2002, pp. 269-270). Therefore, the eastern species of Pyrgulopis was placed in the genus Marstonia (Thompson and Hershler 2002, pp. 269-270), and is the currently accepted nomenclature (Johnson et al. 2013, p. 274). This taxonomic change does not affect the range or endangered status of the armored marstonia.

Eastern Indigo Snake

On January 31, 1978, we published a final rule (43 FR 4026) listing the eastern indigo snake (Drymarchon corais couperi) as a threatened species. Collins (1991, p. 43) elevated this lineage to species status based on geographic isolation and morphology. Subsequent work supported this designation, and the eastern indigo snake was accepted by the scientific community as its own species, Drymarchon couperi (Wüster et al. 2001, p. 163; Crother et al. 2012, p. 59). Ongoing genetic studies further evaluating taxonomic classification suggest potential speciation within Drymarchon couperi (Krysko et al. 2016, entire); however, the scientific community has not yet examined and accepted the eastern indigo snake taxonomic change suggested by Krysko et al. (2016). Currently, the eastern indigo snake is accepted by the scientific community as a separate species, Drymarchon couperi (Crother et al. 2012, p. 59). This taxonomic change does not affect the range or threatened status of the eastern indigo snake.

Required Determinations

Clarity of the Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To help us to revise this rule, your comments should be as specific as possible. For example, you should tell us the paragraphs that are unclearly written, which sections or sentences are too long, the sections where you feel lists or tables would be useful, etc.

National Environmental Policy Act

We have determined that we do not need to prepare environmental assessments or environmental impact statements, as defined under the authority of the National Environmental Policy Act of 1969 (42 U.S.C. 4321 et seq.), in connection with regulations adopted under section 4(a) of the Endangered Species Act. We published a notice outlining our reasons for this determination in the Federal Register on October 25, 1983 (48 FR 49244).

Government-to-Government Relationship With Tribes

In accordance with the President's memorandum of April 29, 1994, “Government-to-Government Relations with Native American Tribal Governments” (59 FR 22951), Executive Order 13175, and the Department of the Interior's manual at 512 DM 2, we readily acknowledge our responsibility to communicate meaningfully with recognized Federal Tribes on a government-to-government basis. In accordance with Secretarial Order 3206 of June 5, 1997 (American Indian Tribal Rights, Federal-Tribal Trust Responsibilities, and the Endangered Species Act), we readily acknowledge our responsibilities to work directly with Tribes in developing programs for healthy ecosystems, to acknowledge that Tribal lands are not subject to the same controls as Federal public lands, to remain sensitive to Indian culture, and to make information available to Tribes. We have determined that this rule will not affect Tribes or Tribal lands.

References Cited

A complete list of the referenced materials is available at http://www.regulations.gov at Docket No. FWS-R4-ES-2021-0133 or upon request from the U.S. Fish and Wildlife Service (see FOR FURTHER INFORMATION CONTACT).

List of Subjects in 50 CFR Part 17

Endangered and threatened species, Exports, Imports, Plants, Reporting and recordkeeping requirements, Transportation, Wildlife.

Regulation Promulgation

For the reasons given in the preamble, we amend part 17, subchapter B of chapter I, title 50 of the Code of Federal Regulations, as set forth below:

PART 17—ENDANGERED AND THREATENED WILDLIFE

1. The authority citation for part 17 continues to read as follows:

Authority: 16. U.S.C. 1361-1407; 1531-1544; 4201-4245, unless otherwise noted.

2. In § 17.11 amend the table in paragraph (h), the List of Endangered and Threatened Wildlife by:

a. Under REPTILES, revising the entry for “Snake, eastern indigo”;

b. Under CLAMS, revising the entries for “Bean, Choctaw”, “Ebonyshell, round”, “Monkeyface, Appalachian (pearlymussel)”, “Monkeyface, Cumberland”, “Mucket, orangenacre”, “Pigtoe, Cumberland”, “Pocketbook, finelined”, “Pocketbook, shinyrayed”, “Riffleshell, northern”, “Rock-pocketbook, Ouachita”, “Spinymussel, James”, and “Spinymussel, Tar River”; and

c. Under SNAILS, revising the entries for “Marstonia, armored (snail)” and “Marstonia, royal”.

The revisions read as follows:

§ 17.11 Endangered and threatened wildlife.

* * * * *

(h) * * *

Common name | Scientific name | Where listed | Status | Listing citations and applicable rules
* * * * * * *
REPTILES
* * * * * * *
Snake, eastern indigo | Drymarchon couperi | Wherever found | T | 43 FR 4026, 1/31/1978.
* * * * * * *
CLAMS
* * * * * * *
Bean, Choctaw | Obovaria choctawensis | Wherever found | E | 77 FR 61663, 10/10/2012; 50 CFR 17.95(f).CH
* * * * * * *
Ebonyshell, round | Reginaia rotulata | Wherever found | E | 58 FR 14330, 3/17/1993; 50 CFR 17.95(f).CH
* * * * * * *
Monkeyface, Appalachian (pearlymussel) | Theliderma sparsa | Wherever found, except where listed as an experimental population | E | 41 FR 24062, 6/14/1976.
Monkeyface, Appalachian (pearlymussel) | Theliderma sparsa | U.S.A. (TN—specified portions of the French Broad and Holston Rivers; see § 17.85(b)(1)) | XN | 72 FR 52434, 9/13/2007; 50 CFR 17.85(b).10j
Monkeyface, Cumberland | Theliderma intermedia | Wherever found, except where listed as an experimental population | E | 41 FR 24062, 6/14/1976.
Monkeyface, Cumberland | Theliderma intermedia | U.S.A. (AL—specified portions of the Tennessee River; see § 17.85(a)(1)) | XN | 66 FR 32250, 6/14/2001; 50 CFR 17.85(a).10j
Monkeyface, Cumberland | Theliderma intermedia | U.S.A. (TN—specified portions of the French Broad and Holston Rivers; see § 17.85(b)(1)) | XN | 72 FR 52434, 9/13/2007; 50 CFR 17.85(b).10j
* * * * * * *
Mucket, orangenacre | Hamiota perovalis | Wherever found | T | 58 FR 14330, 3/17/1993; 50 CFR 17.95(f).CH
* * * * * * *
Pigtoe, Cumberland | Pleuronaia gibber | Wherever found | E | 56 FR 21084, 5/7/1991.
* * * * * * *
Pocketbook, finelined | Hamiota altilis | Wherever found | T | 58 FR 14330, 3/17/1993; 50 CFR 17.95(f).CH
Pocketbook, shinyrayed | Hamiota subangulata | Wherever found | E | 63 FR 12664, 3/16/1998; 50 CFR 17.95(f).CH
* * * * * * *
Riffleshell, northern | Epioblasma rangiana | Wherever found | E | 58 FR 5638, 1/22/1993.
* * * * * * *
Rock pocketbook, Ouachita | Arcidens wheeleri | Wherever found | E | 56 FR 54950, 10/23/1991.
* * * * * * *
Spinymussel, James | Parvaspina collina | Wherever found | E | 53 FR 27689, 7/22/1988.
Spinymussel, Tar River | Parvaspina steinstansana | Wherever found | E | 50 FR 26572, 6/27/1985.
* * * * * * *
SNAILS
* * * * * * *
Marstonia, armored (snail) | Marstonia pachyta | Wherever found | E | 65 FR 10033, 2/25/2000.
Marstonia, royal | Marstonia ogmorhaphe | Wherever found | E | 59 FR 17994, 4/15/1994.
* * * * * * *

3. Amend § 17.85 by:

a. In the introductory text of paragraph (a), revising the entry for “Cumberland monkeyface (pearlymussel)”; and

b. In the introductory text of paragraph (b), revising the entries for “Appalachian monkeyface (pearlymussel)” and “Cumberland monkeyface (pearlymussel)”.

The revisions read as follows:

§ 17.85 Special rules—invertebrates.

(a) * * *

Common name | Scientific name
* * * * * * *
Cumberland monkeyface (pearlymussel) | Theliderma intermedia.
* * * * * * *

* * * * *

(b) * * *

Common name | Scientific name
* * * * * * *
Appalachian monkeyface (pearlymussel) | Theliderma sparsa.
Cumberland monkeyface (pearlymussel) | Theliderma intermedia.
* * * * * * *

4. Amend § 17.95(f) by:

a. In the entry for “Eleven Mobile River Basin Mussel Species: Southern acornshell (Epioblasma othcaloogensis), ovate clubshell (Pleurobema perovatum), southern clubshell (Pleurobema decisum), upland combshell (Epioblasma metastriata), triangular kidneyshell (Ptychobranchus greenii), Alabama moccasinshell (Medionidus acutissimus), Coosa moccasinshell (Medionidus parvulus), orange-nacre mucket (Lampsilis perovalis), dark pigtoe (Pleurobema furvum), southern pigtoe (Pleurobema georgianum), and fine-lined pocketbook (Lampsilis altilis)”, revising the heading, the introductory text to paragraph (1), and the entries for “Orange-nacre mucket (Lampsilis perovalis)” and “Fine-lined pocketbook (Lampsilis altilis)” in the table at paragraph (2)(ii);

b. In the entry for “Seven mussel species (in four northeast Gulf of Mexico drainages): Purple bankclimber (Elliptoideus sloatianus), Gulf moccasinshell (Medionidus penicillatus), Ochlockonee moccasinshell (Medionidus simpsonianus), oval pigtoe (Pleurobema pyriforme), shinyrayed pocketbook (Lampsilis subangulata), Chipola slabshell (Elliptio chipolaensis), and fat threeridge (Amblema neislerii)”, revising the heading, the introductory text to paragraph (2), and the entry for “Shinyrayed pocketbook (Lampsilis subangulata)” in the table at paragraph (6);

c. In the entry for “Eight mussel species in four northeast Gulf of Mexico drainages: the Choctaw bean (Villosa choctawensis), round ebonyshell (Fusconaia rotulata), southern kidneyshell (Ptychobranchus jonesi), Alabama pearlshell (Margaritifera marrianae), fuzzy pigtoe (Pleurobema strodeanum), narrow pigtoe (Fusconaia escambia), tapered pigtoe (Fusconaia burkei), and southern sandshell (Hamiota australis)”, by revising the heading; and

d. In the entry for “Fluted Kidneyshell (Ptychobranchus subtentum)” by revising the heading.

The revisions read as follows:

§ 17.95 Critical habitat—fish and wildlife.

* * * * *

(f) * * *

Eleven Mobile River Basin Mussel Species: Southern acornshell (Epioblasma othcaloogensis), ovate clubshell (Pleurobema perovatum), southern clubshell (Pleurobema decisum), upland combshell (Epioblasma metastriata), triangular kidneyshell (Ptychobranchus greenii), Alabama moccasinshell (Medionidus acutissimus), Coosa moccasinshell (Medionidus parvulus), orangenacre mucket (Hamiota perovalis), dark pigtoe (Pleurobema furvum), southern pigtoe (Pleurobema georgianum), and finelined pocketbook (Hamiota altilis)

(1) The primary constituent elements essential for the conservation of the southern acornshell (Epioblasma othcaloogensis), ovate clubshell (Pleurobema perovatum), southern clubshell (Pleurobema decisum), upland combshell (Epioblasma metastriata), triangular kidneyshell (Ptychobranchus greenii), Alabama moccasinshell (Medionidus acutissimus), Coosa moccasinshell (Medionidus parvulus), orangenacre mucket (Hamiota perovalis), dark pigtoe (Pleurobema furvum), southern pigtoe (Pleurobema georgianum), and finelined pocketbook (Hamiota altilis) are those habitat components that support feeding, sheltering, reproduction, and physical features for maintaining the natural processes that support these habitat components. The primary constituent elements include:

* * * * *

(2) * * *

(ii) * * *

Species | Critical habitat units | States
* * * * * * *
Orangenacre mucket (Hamiota perovalis) | Units 1, 2, 3, 4, 5, 6, 7, 8, 9, 10, 11, 12, 13, 14, 15 | AL, MS.
* * * * * * *
Finelined pocketbook (Hamiota altilis) | Units 13, 16, 17, 18, 19, 20, 21, 22, 23, 24, 25, 26 | AL, GA, TN.

* * * * *

Seven mussel species (in four northeast Gulf of Mexico drainages): Purple bankclimber (Elliptoideus sloatianus), Gulf moccasinshell (Medionidus penicillatus), Ochlockonee moccasinshell (Medionidus simpsonianus), oval pigtoe (Pleurobema pyriforme), shinyrayed pocketbook (Hamiota subangulata), Chipola slabshell (Elliptio chipolaensis), and fat threeridge (Amblema neislerii)

* * * * *

(2) The primary constituent elements of critical habitat for the purple bankclimber (Elliptoideus sloatianus), Gulf moccasinshell (Medionidus penicillatus), Ochlockonee moccasinshell (Medionidus simpsonianus), oval pigtoe (Pleurobema pyriforme), shinyrayed pocketbook (Hamiota subangulata), Chipola slabshell (Elliptio chipolaensis), and fat threeridge (Amblema neislerii) are:

* * * * *

(6) * * *

Species | Critical habitat units | States
* * * * * * *
Shinyrayed pocketbook (Hamiota subangulata) | Units 2, 3, 4, 5, 6, 7, 9 | AL, FL, GA.
* * * * * * *

* * * * *

Eight mussel species in four northeast Gulf of Mexico drainages: Choctaw bean (Obovaria choctawensis), round ebonyshell (Reginaia rotulata), southern kidneyshell (Ptychobranchus jonesi), Alabama pearlshell (Margaritifera marrianae), fuzzy pigtoe (Pleurobema strodeanum), narrow pigtoe (Fusconaia escambia), tapered pigtoe (Fusconaia burkei), and southern sandshell (Hamiota australis)

* * * * *

Fluted Kidneyshell (Ptychobranchus subtentus)

* * * * *

Martha Williams,
Principal Deputy Director, Exercising the Delegated Authority of the Director, U.S. Fish and Wildlife Service.

[FR Doc. 2022-03115 Filed 2-16-22; 8:45 am]

BILLING CODE 4333-15-P